DEPARTMENT OF EDUCATION

[CFDA No. 84.336C]

Teacher Quality Enhancement Grants Program—Recruitment Grants for States and Partnerships

AGENCY: Office of Postsecondary Education, Department of Education.

ACTION: Notice of intent to fund down the grant slate for the Teacher Quality Enhancement Grants Program—Recruitment Grants for States and Partnerships.

SUMMARY: The Secretary intends to use the grant slate developed for the Teacher Quality Enhancement Grants Program—Recruitment Grants for States and Partnerships in fiscal year (FY) 2005 to make new grant awards in FY 2007. The Secretary takes this action because a significant number of high-quality applications remain on the FY 2005 grant slate.

FOR FURTHER INFORMATION CONTACT: Luretha Kelley, U.S. Department of Education, Office of Postsecondary Education, 1990 K Street, NW., room 7906, Washington, DC 20006. Telephone: (202) 502-7645, Fax: 202-502-7699 or e-mail: luretha.kelley@ed.gov.

If you use a telecommunications device for the deaf (TDD), you may call the Federal Relay Service (FRS) at 1-800-877-8339.

Individuals with disabilities may obtain this document in an alternative format (e.g., Braille, large print, audiotape, or computer diskette) on request to the program contact person listed under FOR FURTHER INFORMATION CONTACT.

SUPPLEMENTARY INFORMATION:

Background

On March 21, 2005, we published a notice in the Federal Register (70 FR 13486) inviting applications for new awards under the Teacher Quality Enhancement Grants Program—Recruitment Grants for States and Partnerships. We received a significant number of applications in this competition and made 20 new grant awards. Because such a large number of high-quality applications were received, many applications that were awarded high scores by peer reviewers did not receive funding in FY 2005.

The Department estimates that there will be approximately $2.6 million available for new awards under this program in FY 2007. In order to conserve funding that would have been required for a peer review of new applications submitted under the program, we intend to select grantees in FY 2007 from the existing slate of applicants. This slate was developed during the FY 2005 competition using the selection criteria in the March 21, 2005 notice. No changes to the selection criteria will be required by this action.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 1024.

Dated: April 18, 2007.
James F. Manning,
Delegated the Authority of Assistant Secretary for Postsecondary Education.

[FR Doc. E7-7684 Filed 4-20-07; 8:45 am]

BILLING CODE 4000-01-P